DEPARTMENT OF THE INTERIOR

Bureau of Ocean Energy Management

[Docket No.: BOEM-2021-0052]

Notice of Intent To Prepare an Environmental Impact Statement for the Proposed Sunrise Wind Farm Project on the Northeast Atlantic Outer Continental Shelf; Extension of Comment Period and Corrections

AGENCY: Bureau of Ocean Energy Management, Interior.

ACTION: Notice; extension of comment period and corrections.

SUMMARY: On August 31, 2021, the Bureau of Ocean Energy Management (BOEM) published the “Notice of Intent to Prepare an Environmental Impact Statement for the Proposed Sunrise Wind Farm Project on the Northeast Atlantic Outer Continental Shelf” in the Federal Register (86 FR 48763). The NOI announced that BOEM will prepare an environmental impact statement (EIS) as part of its review of a construction and operations plan submitted by Sunrise Wind LLC and provided project information. The NOI stated that comments received by September 30, 2021, will be considered. This notice corrects two statements in the NOI regarding the agreement with the New York State Energy Research and Development Authority (NYSERDA) and the proposed foundation types. In addition, this notice extends the comment period.

DATES: Comments received by October 4, 2021, will be considered.

ADDRESSES: Comments must be submitted in writing in any of the following ways:

• Delivered by mail or delivery service, enclosed in an envelope labeled “Sunrise Wind COP EIS,” and addressed to Program Manager, Office of Renewable Energy, Bureau of Ocean Energy Management, 45600 Woodland Road, Sterling, Virginia 20166; or

• Through the regulations.gov web portal: Navigate to http://www.regulations.gov and search for Docket No. BOEM-2021-0052. Click on the “Comment Now!” button to the right of the document link. Enter your information and comment, then click “Submit.”

FOR FURTHER INFORMATION CONTACT: Michelle Morin, BOEM Office of Renewable Energy Programs, 45600 Woodland Road, Sterling, Virginia 20166, (703) 787-1722 or michelle.morin@boem.gov.

SUPPLEMENTARY INFORMATION:

Technical Corrections

In the Federal Register dated August 31, 2021, on page 48764 in the first column, line 64, under the heading “Purpose and Need for the Proposed Action,” BOEM originally included the following sentences: “This Project will help the State of New York achieve the aggressive clean energy goals set forth in the Clean Energy Standards Order and the Climate Leadership and Community Protection Act through a power purchase agreement (PPA) contract with the New York State Energy Research and Development Authority to deliver 880 MW of offshore wind energy. Sunrise Wind may modify its PPA contract with NYSERDA to deliver up to 924 MW of offshore wind energy.”

BOEM is replacing that language with these corrected sentences: “This Project will help the State of New York achieve the aggressive clean energy goals set forth in the Clean Energy Standards Order and the Climate Leadership and Community Protection Act through an Offshore Wind Renewable Energy Certificate Purchase and Sale Agreement (OREC) with the New York State Energy Research and Development Authority to deliver 880 MW of offshore wind energy. Sunrise Wind has the ability under the OREC to deliver a maximum project capacity of 924 MW of offshore wind energy.”

In the same edition of the Federal Register, on page 48765, first column, line 2, under the heading “Preliminary Proposed Action and Alternatives,” (which begins on previous page), BOEM included the sentence: “The wind turbine generator foundations may be monopiles or gravity base structures with associated support and access structures, in some combination or entirely of one kind.”

BOEM is replacing that language with this corrected sentence: “The wind turbine generators will use monopile foundations and the OCS-DC will be on a piled jacket foundation.”

William Yancey Brown,
Chief Environmental Officer, Bureau of Ocean Energy Management.

[FR Doc. 2021-19143 Filed 9-2-21; 8:45 am]

BILLING CODE 4310-MR-P